DEPARTMENT OF COMMERCE

International Trade Administration

[A-533-840]

Certain Frozen Warmwater Shrimp From India: Notice of Final Results of Antidumping Duty Changed Circumstances Review

AGENCY: Enforcement and Compliance, International Trade Administration, Department of Commerce.

SUMMARY: On November 9, 2022, the U.S. Department of Commerce (Commerce) published the notice of initiation and preliminary results of a changed circumstances review (CCR) of the antidumping duty (AD) order on certain frozen warmwater shrimp from India. For these final results, Commerce continues to find that Kader Exports Private Limited (Kader Exports) is the successor-in-interest to the Liberty Group.

DATES: Applicable December 23, 2022.

FOR FURTHER INFORMATION CONTACT: Adam Simons, AD/CVD Operations, Office II, Enforcement and Compliance, International Trade Administration, U.S. Department of Commerce, 1401 Constitution Avenue NW, Washington, DC 20230; telephone: (202) 482-6172.

SUPPLEMENTARY INFORMATION:

Background

On September 19, 2022, Kader Exports requested that Commerce conduct an expedited CCR, pursuant to section 751(b)(1) of the Tariff Act of 1930, as amended (the Act), 19 CFR 351.216, and 19 CFR 351.221(c)(3), to confirm that Kader Exports is the successor-in-interest to the Liberty Group ¹ for purposes of determining AD cash deposits and liabilities.² In its submission, Kader Exports stated that it underwent a restructuring in which the companies comprising the Liberty Group were merged into Kader Exports.³

¹ The Liberty Group includes the following affiliated companies: Devi Marine Food Exports Private Limited, Kader Exports, Kader Investment and Trading Company Private Limited, Liberty Frozen Foods Private Limited, Liberty Oil Mills Limited, Premier Marine Products Pvt. Ltd., and Universal Cold Storage Private Limited.

² See Kader Exports' Letter, “Request for an expedited Changed Circumstances Review in Certain Frozen Warmwater Shrimp from India, Case No. A-533-840,” dated September 19, 2022.

³ Id.

On November 9, 2022, Commerce initiated this CCR and published the Preliminary Results, preliminarily determining that Kader Exports is the successor-in-interest to the Liberty Group.⁴ In the Preliminary Results, we provided all interested parties with an opportunity to comment.⁵ However, we received no comments.

⁴ See Certain Frozen Warmwater Shrimp from India: Notice of Initiation and Preliminary Results of Antidumping Duty Changed Circumstances Review, 87 FR 67669 (November 9, 2022) (Preliminary Results), and accompanying Preliminary Decision Memorandum (PDM).

⁵ Id.

Scope of the Order

The merchandise subject to the order is certain frozen warmwater shrimp.⁶ The product is currently classified under the following Harmonized Tariff Schedule of the United States (HTSUS) numbers: 0306.17.00.03, 0306.17.00.04, 0306.17.00.05, 0306.17.00.06, 0306.17.00.07, 0306.17.00.08, 0306.17.00.09, 0306.17.00.10, 0306.17.00.11, 0306.17.00.12, 0306.17.00.13, 0306.17.00.14, 0306.17.00.15, 0306.17.00.16, 0306.17.00.17, 0306.17.00.18, 0306.17.00.19, 0306.17.00.20, 0306.17.00.21, 0306.17.00.22, 0306.17.00.23, 0306.17.00.24, 0306.17.00.25, 0306.17.00.26, 0306.17.00.27, 0306.17.00.28, 0306.17.00.29, 0306.17.00.40, 0306.17.00.41, 0306.17.00.42, 1605.21.10.30, and 1605.29.10.10. Although the HTSUS numbers are provided for convenience and customs purposes, the written product description remains dispositive.

⁶ For a complete description of the scope of the order, see Preliminary Results PDM at 2.

Final Results of CCR

For the reasons stated in the Preliminary Results, Commerce continues to find that Kader Exports is the successor-in-interest to the Liberty Group. As a result of this determination and consistent with established practice, we find that Kader Exports should receive the AD cash deposit rate previously assigned to the Liberty Group. Consequently, Commerce will instruct U.S. Customs and Border Protection to suspend liquidation of all shipments of subject merchandise produced or exported by Kader Exports and entered, or withdrawn from warehouse, for consumption on or after the publication date of this notice in the Federal Register at zero percent, which is the current AD cash deposit rate for the Liberty Group.⁷ This cash deposit requirement shall remain in effect until further notice.

⁷ See Certain Frozen Warmwater Shrimp from India: Final Results of Antidumping Duty Administrative Review; 2016-2017, 83 FR 32835 (July 16, 2018).

Notification to Interested Parties

We are issuing this determination and publishing these final results and notice in accordance with sections 751(b)(1), and 777(i)(1) and (2) of the Act, and 19 CFR 351.216(e), 351.221(b), and 351.221(c)(3).

Dated: December 19, 2022.
James Maeder,
Deputy Assistant Secretary for Antidumping and Countervailing Duty Operations.

[FR Doc. 2022-28008 Filed 12-22-22; 8:45 am]

BILLING CODE 3510-DS-P